FEDERAL COMMUNICATIONS COMMISSION

47 CFR Part 15

[ET Docket No. 03-201; FCC 04-165]

Unlicensed Devices and Equipment Approval

AGENCY: Federal Communications Commission.

ACTION: Correcting amendment.

SUMMARY: On September 7, 2004, the Commission released a Report and Order in the matter of “Unlicensed Devices and Equipment Approval.” This document contains corrections to the final regulations that appeared in the Federal Register of September 7, 2004 (69 FR 54027).

DATES: Effective October 7, 2004.

FOR FURTHER INFORMATION CONTACT: Nancy J. Brooks, Office of Engineering and Technology, (202) 418-2454.

SUPPLEMENTARY INFORMATION:

Background

The final regulations that are the subject of this correction relate to “Unlicensed Devices and Equipment Approval” under § 15.247 of the rules.

Need for Correction

As published, the final regulations contain an error, which requires immediate correction.

List of Subjects in 47 CFR Part 15

Communications equipment.

Accordingly, 47 CFR part 15 is corrected by making the following correcting amendments:

PART 15—RADIO FREQUENCY DEVICES

1. The authority citation for part 15 continues to read as follows

Authority: 47 U.S.C. 154, 302a, 303, 304, 307, 336, and 544A.

§ 15.247 [Amended]

2. Section 15.247 is amended by removing paragraph (b)(5) and by revising paragraph (e) and by adding paragraph (i) to read as follows:

* * * * *

(e) For digitally modulated systems, the power spectral density conducted from the intentional radiator to the antenna shall not be greater than 8 dBm in any 3 kHz band during any time interval of continuous transmission. This power spectral density shall be determined in accordance with the provisions of paragraph (b) of this section. The same method of determining the conducted output power shall be used to determine the power spectral density.

* * * * *

(i) Systems operating under the provisions of this section shall be operated in a manner that ensures that the public is not exposed to radio frequency energy levels in excess of the Commission's guidelines. See § 1.1307(b)(1) of this chapter.

* * * * *

Federal Communications Commission.
Marlene H. Dortch,
Secretary.

[FR Doc. E7-1993 Filed 2-6-07; 8:45 am]

BILLING CODE 6712-01-P